NATIONAL SCIENCE FOUNDATION

Advisory Committee for Geosciences; Notice of Meeting

In accordance with the Federal Advisory Committee Act (Pub. L. 92-463, as amended), the National Science Foundation announces the following meeting:

Name: Advisory Committee for Geosciences (1755).

Dates: October 17, 9 a.m.-5 p.m. and October 18, 2007, 9 a.m.-2:30 p.m.

Place: Stafford I, Room 375, National Science Foundation, 4201 Wilson Blvd., Arlington, Virginia 22230.

Type of Meeting: Open.

For Further Information Contact: Melissa Lane, National Science Foundation, 4201 Wilson Blvd., Suite 705, Arlington, Virginia 22230, Phone: 703-292-8500.

If you are attending the meeting and need access to the NSF, please contact the individual listed above so your name may be added to the building access list.

Minutes: May be obtained from the contact person listed above.

Purpose of Meeting: To provide advice, recommendations, and oversight concerning support for research, education, and human resources development in the geosciences.

Agenda:

October 16

Directorate activities and plans

Meeting with the Director (or Representative)

Division Subcommittee Meetings

Review of COV Reports

October 17

Education and Diversity Subcommittee Meeting

Joint Session with NSF Advisory Committee on Environmental Research and Education

Dated: August 28, 2007.
Susanne Bolton,
Committee Management Officer.

[FR Doc. E7-17344 Filed 8-30-07; 8:45 am]

BILLING CODE 7555-01-P